DEPARTMENT OF DEFENSE

Department of Air Force

[Docket ID: USAF-2009-0046]

Privacy Act of 1974; System of Records

AGENCY: Department of Air Force.

ACTION: Notice to amend a system of records.

SUMMARY: The Department of Air Force proposes to amend a system of records to its inventory of record systems subject to the Privacy Act of 1974 (5 U.S.C. 552a), as amended.

DATES: The changes will be effective on August 17, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Ben Swilley at (703) 696-6648.

SUPPLEMENTARY INFORMATION: The Department of the Air Force systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: July 10, 2009.
Morgan E. Frazier,
Alternate OSD Federal Register Liaison Officer, Department of Defense.

F036 AETC O

System Name:

Defense English Language Management Information System (DELMIS) (June 11, 1997, 62 FR 31793).

Changes:

* * * * *

System name:

Delete entry and replace with “Student Data Management System (SDMS).”

System location:

Delete entry and replace with “Defense Language Institute English Language Center, 2235 Andrews Avenue, Lackland Air Force Base, TX 78236-5231.”

* * * * *

Authority for maintenance of the system:

Delete entry and replace with “10 U.S.C. 8013, Secretary of the Air Force; powers and duties; delegation by; as implemented by Air Force Instruction 16-103/OPNAVINST 1550.11/MCO 1550.24, Management of the Defense English Language Program; DoD Directive 5160.41E, Defense Language Program (DLP) and E.O. 9397 (SSN).”

Purpose(s):

Delete entry and replace with “To track cause and type of attrition and to compare the results against demographic and performance data; monitor the progress of each individual toward completion of the program.”

* * * * *

Storage:

Delete entry and replace with “Paper records and electronic storage media.”

* * * * *

System manager(s) and address:

Delete entry and replace with “Chief, Information Technology, Defense Language Institute English Language Center, 2235 Andrews Avenue, Lackland Air Force Base, TX 78236-5231.”

Notification procedure:

Delete entry and replace with “Individuals seeking to determine whether this system of records contains information on themselves should address inquiries to the Chief, Information Technology, Defense Language Institute English Language Center, 2235 Andrews Avenue, Lackland Air Force Base, TX 78236-5231.

Inquiries should include name and Social Security Number to determine if the system contains a record relative to any specific individual. Valid proof of identity is required.

Record access procedures:

Delete entry and replace with “Individuals seeking to access records about themselves contained in this system should address requests to the Chief, Information Technology, Defense Language Institute English Language Center, 2235 Andrews Avenue, Lackland Air Force Base, TX 78236-5231.

Requests should include name and Social Security Number to determine if the system contains a record relative to any specific individual. Valid proof of identity is required.

* * * * *

F036 AETC O

System name:

Student Data Management System (SDMS).

System location:

Defense Language Institute English Language Center, 2235 Andrews Avenue, Lackland Air Force Base, Texas 78236-5231.

Categories of individuals covered by the system:

International Military Students (IMS) and active duty military personnel assigned to the program.

Categories of records in the system:

Name and Social Security Number; demographic data such as date of birth, sex, marital status, ethnic group; educational data; performance data such as test scores; measurement data; individual training progress and proficiency; class schedule; locator, and academic status.

Authority for maintenance of the system:

10 U.S.C. 8013, Secretary of the Air Force; powers and duties; delegation by; as implemented by Air Force Instruction 16-103/OPNAVINST 1550.11/MCO 1550.24, Management of the Defense English Language Program; DoD Directive 5160.41E, Defense Language Program (DLP) and E.O. 9397 (SSN).

Purpose(s):

To track cause and type of attrition and to compare the results against demographic and performance data; monitor the progress of each individual toward completion of the program.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD `Blanket Routine Uses' published at the beginning of the Air Force's compilation of record system notices apply to this system.

Policies and practices for storing, retrieving, accessing, retaining, and disposing of records in the system:

Storage:

Paper records and electronic storage media.

Retrievability:

Retrieved by name or student control number.

Safeguards:

Records are accessed by person(s) responsible for servicing the record system in performance of their official duties and by authorized personnel who are properly screened and cleared for need-to-know. Records are stored in locked rooms and cabinets. Those in computer storage devices are protected by computer system software. Access to the computer system requires user code and password.

Retention and disposal:

Output products are retained until no longer needed; computerized records will be retained indefinitely after individual completes or discontinues training. Records are destroyed by tearing into pieces, shredding, pulping, macerating or burning. Computer records are destroyed by erasing, deleting or overwriting.

System manager(s) and address:

Chief, Information Technology, Defense Language Institute English Language Center, 2235 Andrews Avenue, Lackland Air Force Base, Texas 78236-5231.

Notification procedure:

Individuals seeking to determine whether this system of records contains information on themselves should address inquiries to the Chief, Information Technology, Defense Language Institute English Language Center, 2235 Andrews Avenue, Lackland Air Force Base, Texas 78236-5231.

Inquiries should include full name and social security number to determine if the system contains a record relative to any specific individual. Valid proof of identity is required.

Record access procedures:

Individuals seeking to access records about themselves contained in this system should address requests to the Chief, Information Technology, Defense Language Institute English Language Center, 2235 Andrews Avenue, Lackland Air Force Base, Texas 78236-5231.

Requests should include full name and social security number to determine if the system contains a record relative to any specific individual. Valid proof of identity is required.

Contesting record procedures:

The Air Force rules for accessing records, and for contesting contents and appealing initial agency determinations are published in Air Force Instruction 37-132; 32 CFR part 806b; or may be obtained from the system manager.

Record source categories:

Information obtained from the individual, source documents, and commanders.

Exemptions claimed for the system:

None.

[FR Doc. E9-16873 Filed 7-15-09; 8:45 am]

BILLING CODE 5001-06-P